DEPARTMENT OF TRANSPORTATION

Federal Aviation Administration

14 CFR Part 39

[Docket No. FAA-2006-23762; Directorate Identifier 2005-NM-226-AD]

RIN 2120-AA64

Airworthiness Directives; Boeing Model 767 Airplanes

AGENCY: Federal Aviation Administration (FAA), Department of Transportation (DOT).

ACTION: Notice of proposed rulemaking (NPRM).

SUMMARY: The FAA proposes to adopt a new airworthiness directive (AD) for all Boeing Model 767 airplanes. This proposed AD would require repetitive inspections for cracking in the skin, the bulkhead outer chord, and the strap of the bulkhead outer chord at station (STA) 1725.5; and repair if necessary. This proposed AD also provides for repairs, which are optional for airplanes on which no cracking is found, that terminate certain inspections. This proposed AD results from reports of cracking in the skin panel common to stringer 7R and aft of the STA 1725.5 butt splice, and in the strap of the bulkhead outer chord at STA 1725.5. We are proposing this AD to detect and correct cracking in the skin, the bulkhead outer chord, or the strap of the bulkhead outer chord in this area, which could progress into surrounding areas and result in reduced structural integrity of the support structure for the vertical or horizontal stabilizer and subsequent loss of control of the airplane.

DATES: We must receive comments on this proposed AD by March 20, 2006.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility, U.S. Department of Transportation, 400 Seventh Street, SW., Nassif Building, room PL-401, Washington, DC 20590.

• Fax: (202) 493-2251.

• Hand Delivery: Room PL-401 on the plaza level of the Nassif Building, 400 Seventh Street, SW., Washington, DC, between 9 a.m. and 5 p.m., Monday through Friday, except Federal holidays.

Contact Boeing Commercial Airplanes, P.O. Box 3707, Seattle, Washington 98124-2207, for the service information identified in this proposed AD.

FOR FURTHER INFORMATION CONTACT: Candice Gerretsen, Aerospace Engineer, Airframe Branch, ANM-120S, FAA, Seattle Aircraft Certification Office, 1601 Lind Avenue, SW., Renton, Washington 98055-4056; telephone (425) 917-6428; fax (425) 917-6590.

SUPPLEMENTARY INFORMATION:

Comments Invited

We invite you to submit any relevant written data, views, or arguments regarding this proposed AD. Send your comments to an address listed in the ADDRESSES section. Include the docket number “FAA-2006-23762; Directorate Identifier 2005-NM-226-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed AD. Using the search function of that Web site, anyone can find and read the comments in any of our dockets, including the name of the individual who sent the comment (or signed the comment on behalf of an association, business, labor union, etc.). You may review DOT's complete Privacy Act Statement in the Federal Register published on April 11, 2000 (65 FR 19477-78), or you may visit http://dms.dot.gov.

Examining the Docket

You may examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the Docket Management System receives them.

Discussion

We have received several reports indicating that cracking has been found in the skin panel common to stringer 7R and aft of the station (STA) 1725.5 butt splice, and in the bulkhead outer chord strap at STA 1725.5, on several Boeing Model 767 airplanes. The cracking in the skin panel was found on airplanes that had accumulated between 13,342 and 35,641 total flight cycles. Similar cracking was found during fatigue tests of Model 767 airplanes. The cracking in the bulkhead outer chord strap originated at a fastener hole above stringer 7R in the same area where the skin cracking was found. Cracking in these areas, if not corrected, could progress into surrounding areas and result in reduced structural integrity of the support structure for the vertical or horizontal stabilizer and subsequent loss of control of the airplane.

Relevant Service Information

We have reviewed Boeing Special Attention Service Bulletin 767-53-0118, dated September 8, 2005. The service bulletin describes procedures for the following repetitive inspections for cracking:

• Part 1: Detailed external inspections of the skin aft of STA 1725.5, between stringers 6R and 8R.

• Part 2: Detailed inspections of the bulkhead outer chord and the strap of the bulkhead outer chord, and surface high frequency eddy current (HFEC) inspections of the strap of the bulkhead outer chord at STA 1725.5.

The service bulletin refers to the structural repair manual (SRM) for procedures for repairing any crack found in the skin or the strap of the bulkhead outer chord. If cracking is found in the bulkhead outer chord, the service bulletin specifies to contact Boeing for repair procedures. The service bulletin specifies that repairing per a certain procedure in the SRM eliminates the need to continue the Part 1 inspections. The service bulletin also specifies that repairing per certain other procedures in the SRM eliminates the need to continue the Part 1 and Part 2 inspections.

The service bulletin specifies a compliance time of 15,000 total flight cycles or 3,000 flight cycles after the original issue date on the service bulletin for performing the initial Part 1 and Part 2 inspections. The service bulletin specifies a repetitive interval not to exceed 6,000 flight cycles for the Part 1 and Part 2 inspections. Any cracking must be repaired before further flight.

Accomplishing the actions specified in the service information is intended to adequately address the unsafe condition.

FAA's Determination and Requirements of the Proposed AD

We have evaluated all pertinent information and identified an unsafe condition that is likely to exist or develop on other airplanes of this same type design. For this reason, we are proposing this AD, which would require accomplishing the actions specified in the service information described previously, except as discussed under “Differences Between the Proposed AD and Service Information.”

Differences Between the Proposed AD and Service Information

The service bulletin specifies to contact the manufacturer for instructions on how to repair certain conditions, but this proposed AD would require repairing those conditions in one of the following ways:

• Using a method that we approve; or

• Using data that meet the certification basis of the airplane, and that have been approved by an Authorized Representative for the Boeing Commercial Airplanes Delegation Option Authorization Organization whom we have authorized to make those findings.

The service bulletin specifies compliance times relative to the date of issuance of the service bulletin; however, this proposed AD would require compliance before the specified compliance time after the effective date of this AD.

These differences have been coordinated with Boeing.

Costs of Compliance

There are about 905 airplanes of the affected design in the worldwide fleet. The following table provides the estimated costs for U.S. operators to comply with this proposed AD.

Estimated Costs
Action | Work hours | Average labor rate per hour | Cost per airplane | Number of U.S.-registered airplanes | Fleet cost
Part 1 Inspection, per inspection cycle | 5 | $65 | $325, per inspection cycle | 387 | $125,775, per inspection cycle.
Part 2 Inspections, per inspection cycle | 9 | 65 | $585, per inspection cycle | 387 | $226,395, per inspection cycle.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

Boeing: Docket No. FAA-2006-23762; Directorate Identifier 2005-NM-226-AD.

Comments Due Date

(a) The FAA must receive comments on this AD action by March 20, 2006.

Affected ADs

(b) None.

Applicability

(c) This AD applies to all Boeing Model 767-200, -300, -300F, and -400ER series airplanes, certificated in any category.

Unsafe Condition

(d) This AD results from reports of cracking in the skin panel common to stringer 7R and aft of the station (STA) 1725.5 butt splice, and in the strap of the bulkhead outer chord at STA 1725.5. We are issuing this AD to detect and correct cracking in the skin, the bulkhead outer chord, or the strap of the bulkhead outer chord in this area, which could progress into surrounding areas and result in reduced structural integrity of the support structure for the vertical or horizontal stabilizer and subsequent loss of control of the airplane.

Compliance

(e) You are responsible for having the actions required by this AD performed within the compliance times specified, unless the actions have already been done.

Repetitive Inspections

(f) Perform repetitive detailed and high frequency eddy current inspections for cracking in the skin, the bulkhead outer chord, and the strap of the bulkhead outer chord at STA 1725.5, in accordance with the Accomplishment Instructions of Boeing Special Attention Service Bulletin 767-53-0118, dated September 8, 2005. Do the initial and repetitive Part I and Part 2 inspections at the times specified in paragraph 1.E., Compliance, of the service bulletin; except, where the service bulletin specifies a compliance time after the issuance of the service bulletin, this AD requires compliance within the specified compliance time after the effective date of this AD.

Repair

(g) If any cracking is found during any inspection required by paragraph (f) of this AD: Before further flight, perform applicable repairs in accordance with the Accomplishment Instructions of Boeing Special Attention Service Bulletin 767-53-0118, dated September 8, 2005; except, where the service bulletin specifies to contact Boeing for repair instructions, before further flight, repair the cracking using a method approved in accordance with the procedures specified in paragraph (i) of this AD.

Optional Terminating Action

(h) Completing repairs specified in the Accomplishment Instructions of the service bulletin terminates repetitive inspections required by paragraph (f) of this AD as specified in paragraphs (h)(1) and (h)(2) of this AD.

(1) Completing repairs specified in paragraph 3.B.3.a. of the service bulletin terminates both the Part 1 and Part 2 inspections required by paragraph (f) of this AD.

(2) Completing repairs specified in paragraph 3.B.4.a. of the service bulletin terminates the Part 1 inspections required by paragraph (f) of this AD. Part 2 inspections must continue as required by paragraph (f) of this AD until the repairs specified in paragraph 3.B.3.a. of the service bulletin are completed.

Alternative Methods of Compliance (AMOCs)

(i)(1) The Manager, Seattle Aircraft Certification Office (ACO), FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

(3) An AMOC that provides an acceptable level of safety may be used for any repair required by this AD, if it is approved by an Authorized Representative for the Boeing Commercial Airplanes Delegation Option Authorization Organization who has been authorized by the Manager, Seattle ACO, to make those findings. For a repair method to be approved, the repair must meet the certification basis of the airplane, and the approval must specifically refer to this AD.

Issued in Renton, Washington, on January 26, 2006.
Ali Bahrami,
Manager, Transport Airplane Directorate, Aircraft Certification Service.

[FR Doc. E6-1419 Filed 2-1-06; 8:45 am]

BILLING CODE 4910-13-P